DEPARTMENT OF AGRICULTURE

Animal and Plant Health Inspection Service

[Docket No: APHIS-2007-0118]

Imported Fire Ant; Availability of an Environmental Assessment

AGENCY: Animal and Plant Health Inspection Service, USDA.

ACTION: Notice of availability and request for comments.

SUMMARY: We are advising the public that a draft environmental assessment has been prepared by the Animal and Plant Health Inspection Service relative to the proposed release into areas quarantined for imported fire ant of five additional species of phorid flies for use as biological control agents. We are making the environmental assessment available to the public for review and comment.

DATES: We will consider all comments that we receive on or before December 13, 2007.

ADDRESSES: You may submit comments by either of the following methods:

• Federal eRulemaking Portal: Go to http://www.regulations.gov, select “Animal and Plant Health Inspection Service” from the agency drop-down menu, then click “Submit.” In the Docket ID column, select APHIS-2007-0118 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0118, Regulatory Analysis and Development, PPD, APHIS, Station 3A-03.8, 4700 River Road, Riverdale, MD 20737-1238. Please state that your comment refers to Docket No. APHIS-2007-0118.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other information: Additional information about APHIS and its programs is available on the Internet at http://www.aphis.usda.gov.

FOR FURTHER INFORMATION CONTACT: Mr. Charles L. Brown, Imported Fire Ant Quarantine Program Manager, Pest Detection and Management Programs, PPQ, APHIS, 4700 River Road Unit 134, Riverdale, MD 20737-1236; (301) 734-4838.

SUPPLEMENTARY INFORMATION:

Background

The imported fire ant (Solenopsis invicta Buren, Solenopsis richteri Forel, and hybrids of these species) is an aggressive, stinging insect that, in large numbers, can seriously injure and even kill livestock, pets, and humans. The imported fire ant, which is not native to the United States, feeds on crops and builds large, hard mounds that damage farm and field machinery. The imported fire ant regulations (contained in 7 CFR 301.81 through 301.81-10 and referred to below as the regulations) are intended to prevent the imported fire ant from spreading throughout its ecological range within the country. The regulations quarantine infested States or infested areas within States and restrict the interstate movement of regulated articles to prevent the artificial spread of the imported fire ant.

In addition to the movement restrictions in the regulations, the Animal and Plant Health Inspection Service (APHIS) and its State cooperators release phorid flies (Pseudacteon species), a natural enemy of the imported fire ant, into quarantined areas. These flies parasitize the imported fire ant, killing those that are parasitized. Those ants that are not parasitized are affected behaviorally by the presence of the flies because their presence reduces fire ant foraging. A decrease in foraging activity facilitates competition from native fire ants that might otherwise be excluded from food sources in fire ant territory.

Currently, APHIS uses three species of phorid flies (Pseudacteon curvatus, P. litoralis, and P. tricuspis) as biological control agents. We are now proposing to release five more species (P. cultellatus, P. nocens, P. nudicornis, P. obtusus, and P. sp. near obtusus) into areas quarantined for imported fire ant within the Commonwealth of Puerto Rico and the following States: Alabama, Arkansas, California, Florida, Georgia, Louisiana, Mississippi, North Carolina, New Mexico, Oklahoma, South Carolina, Tennessee, and Texas.

To provide the public with documentation of APHIS' review and analysis of the potential environmental impacts associated with releasing these additional species of phorid flies into the environment, we have prepared a draft environmental assessment entitled “Field Release of Phorid Flies (Pseudacteon species) for the Biological Control of Imported Fire Ants” (July 2007).

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 7th day of November 2007.
Kevin Shea,
Acting Administrator, Animal and Plant Health Inspection Service.

[FR Doc. E7-22092 Filed 11-9-07; 8:45 am]

BILLING CODE 3410-34-P